COMMISSION ON CIVIL RIGHTS

Notice of Public Meeting of the Missouri Advisory Committee for a Meeting To Discuss Panel Participants and Location Sites of Public Meeting on Police-Community Relations

AGENCY: U.S. Commission on Civil Rights.

ACTION: Notice of meeting.

SUMMARY: Notice is hereby given, pursuant to the provisions of the rules and regulations of the U.S. Commission on Civil Rights (Commission) and the Federal Advisory Committee Act that the Missouri Advisory Committee (Committee) will hold a meeting on Monday, December 15, 2014, at 12:00 p.m. for the purpose of discussing panel participants and location sites of public meeting on police-community relations. At is meeting in November, the Committee approved a proposal that included holding a public meeting in St. Louis to hear testimony from community members, police representatives, government officials, and other experts on police-community relations in Missouri. At this meeting, the Committee will begin to discuss how to create balanced panel discussions.

Members of the public can listen to the discussion. This meeting is available to the public through the following toll-free call-in number: 888-510-1786, conference ID: 9613952. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Member of the public are also entitled to submit written comments; the comments must be received in the regional office by January 15, 2014. Written comments may be mailed to the Midwestern Regional Office, U.S. Commission on Civil Rights, 55 W. Monroe St., Suite 410, Chicago, IL 60615. They may also be faxed to the Commission at (312) 353-8324, or emailed to Carolyn Allen at callen@usccr.gov. Persons who desire additional information may contact the Midwestern Regional Office at (312) 353-8311.

Records generated from this meeting may be inspected and reproduced at the Midwestern Regional Office, as they become available, both before and after the meeting. Records of the meeting will be available via www.facadatabase.gov under the Commission on Civil Rights, Missouri Advisory Committee link. Persons interested in the work of this Committee are directed to the Commission's Web site, http://www.usccr.gov, or may contact the Midwestern Regional Office at the above email or street address.

Agenda

Welcome

12:00 p.m. to 12:05 p.m.

S. David Mitchell, Chairman, Missouri Advisory Committee

Discussion of Possible Presenters at Public Meeting

12:05 p.m. to 12:40 p.m.

Missouri Advisory Committee

Discussion of Possible Venues

12:40 p.m. to 12:55 p.m.

Missouri Advisory Committee

Planning Next Steps

12:55 p.m. to 1:00 p.m.

Adjournment

1:00 p.m.

DATES: The meeting will be held on Monday, December 15, 2014, at 12:00 p.m. CST.

Public Call Information: Dial: 888-510-1786, Conference ID: 9613952.

Dated: November 25, 2014.
David Mussatt,
Chief, Regional Programs Unit.

[FR Doc. 2014-28277 Filed 12-1-14; 8:45 am]

BILLING CODE 6335-01-P